FEDERAL COMMUNICATIONS COMMISSION

47 CFR Part 73

[DA 06-426; MB Docket No. 04-215, RM-10993]

Radio Broadcasting Services; Matagorda, TX

AGENCY: Federal Communications Commission.

ACTION: Final rule.

SUMMARY: At the request of Joseph L. Sandlin, the Audio Division allots Channel 252A at Matagorda, Texas, as the community's first local aural transmission service. See 69 FR 35564 (June 25, 2004). Channel 252A is allotted at Matagorda without a site restriction at coordinates 28-41-25 NL and 95-58-02 WL. A counterproposal filed by Fort Bend Broadcasting Company is dismissed as defective.

DATES: Effective, April 10, 2006.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-215 adopted February 22, 2006, and released February 24, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A)

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Texas, is amended by adding Matagorda, Channel 252A.

Federal Communications Commission.
John A. Karousos,
Assistant Chief, Audio Division, Media Bureau.

[FR Doc. 06-2499 Filed 3-14-06; 8:45 am]

BILLING CODE 6712-01-P